DEPARTMENT OF ENERGY

Federal Energy Regulatory Commission

Combined Notice of Filings #1

Take notice that the Commission received the following electric rate filings:

Docket Numbers: ER20-431-001.

Applicants: Ohio Power Company, AEP Ohio Transmission Company, Inc., PJM Interconnection, L.L.C.

Description: Compliance filing: AEP submits compliance filing per Commission's 1/17/20 order-Docket No. ER20-431 to be effective 1/21/2020.

Filed Date: 2/13/20.

Accession Number: 20200213-5044.

Comments Due: 5 p.m. ET 3/5/20.

Docket Numbers: ER20-722-000.

Applicants: Baconton Power LLC.

Description: Amendment to December 31, 2019 Baconton Power LLC tariff filing (to be effective 1/1/2020).

Filed Date: 2/13/20.

Accession Number: 20200213-5129.

Comments Due: 5 p.m. ET 2/20/20.

Docket Numbers: ER20-991-000.

Applicants: Midcontinent Independent System Operator, Inc.

Description: § 205(d) Rate Filing: 2020-02-13_SA 1495 NSP-Walleye Wind 1st Rev GIA (G253 J569) to be effective 1/29/2020.

Filed Date: 2/13/20.

Accession Number: 20200213-5001.

Comments Due: 5 p.m. ET 3/5/20.

Docket Numbers: ER20-992-000.

Applicants: Midcontinent Independent System Operator, Inc.

Description: § 205(d) Rate Filing: 2020-02-13_SA 3048 Washington Parish-Entergy Louisiana 1st Rev GIA (J792) to be effective 1/27/2020.

Filed Date: 2/13/20.

Accession Number: 20200213-5002.

Comments Due: 5 p.m. ET 3/5/20.

Docket Numbers: ER20-993-000.

Applicants: Louisville Gas and Electric Company.

Description: § 205(d) Rate Filing: EKPC Amd NITSA Lock 12 North Sharkey to be effective 1/20/2020.

Filed Date: 2/13/20.

Accession Number: 20200213-5012.

Comments Due: 5 p.m. ET 3/5/20.

Docket Numbers: ER20-994-000.

Applicants: New York Independent System Operator, Inc.

Description: § 205(d) Rate Filing: 205 filing re: proxy generator bus name change for the Ontario Control Area to be effective 4/14/2020.

Filed Date: 2/13/20.

Accession Number: 20200213-5058.

Comments Due: 5 p.m. ET 3/5/20.

Docket Numbers: ER20-995-000.

Applicants: PacifiCorp.

Description: § 205(d) Rate Filing: BPA NITSA (SVEC Load) Rev 1 to be effective 2/10/2020.

Filed Date: 2/13/20.

Accession Number: 20200213-5062.

Comments Due: 5 p.m. ET 3/5/20.

Docket Numbers: ER20-996-000.

Applicants: The Connecticut Light and Power Company.

Description: § 205(d) Rate Filing: Amended and Restated Agreement for CONVEX Services to be effective 2/14/2020.

Filed Date: 2/13/20.

Accession Number: 20200213-5065.

Comments Due: 5 p.m. ET 3/5/20.

Docket Numbers: ER20-997-000.

Applicants: PJM Interconnection, L.L.C.

Description: § 205(d) Rate Filing: Original WMPA SA No. 5591; Queue No. AE2-054 to be effective 1/22/2020.

Filed Date: 2/13/20.

Accession Number: 20200213-5066.

Comments Due: 5 p.m. ET 3/5/20.

Docket Numbers: ER20-998-000.

Applicants: BNP Paribas Energy Trading GP.

Description: Notice of Cancellation of Market-Based Rate Tariff of BNP Paribas Energy Trading GP.

Filed Date: 2/13/20.

Accession Number: 20200213-5082.

Comments Due: 5 p.m. ET 3/5/20.

Docket Numbers: ER20-999-000.

Applicants: Public Service Company of New Mexico.

Description: § 205(d) Rate Filing: NITSA/NOA between PNM and Pueblo of Acoma to be effective 3/1/2020.

Filed Date: 2/13/20.

Accession Number: 20200213-5083.

Comments Due: 5 p.m. ET 3/5/20.

Docket Numbers: ER20-1000-000.

Applicants: Southern California Edison Company.

Description: § 205(d) Rate Filing: Amended GIA San Gorgonio Westwinds II VPI Enterprises Dif Altwind Proj SA No 867 to be effective 4/14/2020.

Filed Date: 2/13/20.

Accession Number: 20200213-5092.

Comments Due: 5 p.m. ET 3/5/20.

Docket Numbers: ER20-1001-000.

Applicants: PJM Interconnection, L.L.C.

Description: § 205(d) Rate Filing: Original WMPA No. 5597; Queue No. AD2-025 to be effective 1/16/2020.

Filed Date: 2/13/20.

Accession Number: 20200213-5158.

Comments Due: 5 p.m. ET 3/5/20.

Docket Numbers: ER20-1002-000.

Applicants: FirstEnergy Solutions Corp.

Description: Compliance filing: Notice of Succession for Reactive Service Rate Schedule to be effective 1/30/2020.

Filed Date: 2/13/20.

Accession Number: 20200213-5167.

Comments Due: 5 p.m. ET 3/5/20.

Take notice that the Commission received the following foreign utility company status filings:

Docket Numbers: FC20-1-000.

Applicants: I Squared Capital.

Description: Notification of Self-Certification of Foreign Utility Company Status of I Squared Capital.

Filed Date: 1/30/20.

Accession Number: 20200130-5218.

Comments Due: 5 p.m. ET 2/20/20.

Docket Numbers: FC20-2-000.

Applicants: Enbridge (U.S.) Inc.

Description: Self-Certification of EG or FC of Enbridge (U.S.) Inc.

Filed Date: 2/13/20.

Accession Number: 20200213-5052.

Comments Due: 5 p.m. ET 3/5/20.

Docket Numbers: FC20-3-000.

Applicants: Enbridge (U.S.) Inc.

Description: Self-Certification of EG or FC of Enbridge (U.S.) Inc.

Filed Date: 2/13/20.

Accession Number: 20200213-5053.

Comments Due: 5 p.m. ET 3/5/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2020.
Nathaniel J. Davis, Sr.,
Deputy Secretary.

[FR Doc. 2020-03386 Filed 2-19-20; 8:45 am]

BILLING CODE 6717-01-P